DEPARTMENT OF COMMERCE

International Trade Administration

[A-570-967]

Aluminum Extrusions From the People's Republic of China: Preliminary Results of Antidumping Duty Administrative Review; 2013-2014

AGENCY: Enforcement and Compliance, International Trade Administration, Department of Commerce.

SUMMARY: The Department of Commerce (the Department) is conducting an administrative review of the antidumping duty order on aluminum extrusions from the People's Republic of China (PRC).¹ The period of review (POR) is May 1, 2013 through April 30, 2014. These preliminary results cover 39 companies for which an administrative review was initiated and not rescinded.² The Department selected the following companies as mandatory respondents: Guangzhou Jangho Curtain Wall System Engineering Co., Ltd. and Jangho Curtain Wall Hong Kong Ltd. (collectively, Jangho), Union Industry (Asia) Co., Ltd. (Union), and Guang Ya Aluminium Industries Co., Ltd., Foshan Guangcheng Aluminium Co., Ltd., Kong Ah International Company Limited, and Guang Ya Aluminium Industries (Hong Kong) Ltd. (collectively, Guang Ya Group); Guangdong Zhongya Aluminium Company Limited, Zhongya Shaped Aluminium (HK) Holding Limited, and Karlton Aluminum Company Ltd. (collectively, Zhongya); and Xinya Aluminum & Stainless Steel Product Co., Ltd. (Xinya) (collectively, Guang Ya Group/Zhongya/Xinya).³ The Department preliminarily finds that Union did not make sales of subject merchandise at less than normal value. In addition, the Department preliminarily determines that Jangho and Guang Ya Group/Zhongya/Xinya failed to cooperate by not acting to the best of their abilities to fully comply with the Department's requests for information, warranting the application of facts otherwise available with adverse inferences, pursuant to sections 776(a) and 776(b) of the Tariff Act of 1930, as amended (the Act). We also preliminarily determine that one company, Xin Wei Aluminum Company Limited (Xin Wei), had no shipments. If these preliminary results are adopted in the final results of this review, we will instruct U.S. Customs and Border Protection (CBP) to assess antidumping duties on all appropriate entries. Interested parties are invited to comment on these preliminary results.

¹ The Department initiated this review on June 27, 2014. See Initiation of Antidumping and Countervailing Duty Administrative Reviews, 79 FR 36462 (June 27, 2014) (Initiation Notice).

² This administrative review initially covered 155 companies. See Initiation Notice. However, on January 29, 2015, the Department rescinded this review with respect to 116 companies. See Aluminum Extrusions From the People's Republic of China: Partial Rescission of Antidumping Duty Administrative Review, 80 FR 4868 (January 29, 2015).

³ In prior segments of this proceeding the Department found that the Guang Ya Group, Zhongya, and Xinya were affiliated with each other and should be treated as a single entity. See, e.g., Aluminum Extrusions From the People's Republic of China: Final Results of Antidumping Duty Administrative Review and Rescission, in Part, 2010/12, 79 FR 96 (January 2, 2014) (2010-2012 Final Results) and Aluminum Extrusions From the People's Republic of China: Final Results of Antidumping Duty Administrative Review; 2012-2013, 79 FR 78784 (December 31, 2014) (2012-2013 Final Results).

DATES: Effective Date: June 8, 2015.

FOR FURTHER INFORMATION CONTACT: Deborah Scott, Mark Flessner or Robert James, AD/CVD Operations, Office VI, Enforcement and Compliance, International Trade Administration, Department of Commerce, 1401 Constitution Avenue NW., Washington, DC 20230; telephone: (202) 482-2657, (202) 482-6312 or (202) 482-0649, respectively.

SUPPLEMENTARY INFORMATION:

Scope of the Order

The merchandise covered by the Order ⁴ is aluminum extrusions which are shapes and forms, produced by an extrusion process, made from aluminum alloys having metallic elements corresponding to the alloy series designations published by The Aluminum Association commencing with the numbers 1, 3, and 6 (or proprietary equivalents or other certifying body equivalents).⁵

⁴ See Aluminum Extrusions from the People's Republic of China: Antidumping Duty Order, 76 FR 30650 (May 26, 2011) (Order).

⁵ See Memorandum from Christian Marsh, Deputy Assistant Secretary for Antidumping and Countervailing Duty Operations to Ronald K. Lorentzen, Acting Assistant Secretary for Enforcement and Compliance, “Decision Memorandum for Preliminary Results of Antidumping Duty Administrative Review: Aluminum Extrusions from the People's Republic of China; 2013-2014,” dated concurrently with this notice (Preliminary Decision Memorandum) for a complete description of the scope of the Order.

Imports of the subject merchandise are provided for under the following categories of the Harmonized Tariff Schedule of the United States (HTSUS): 7610.10.00, 7610.90.00, 7615.10.30, 7615.10.71, 7615.10.91, 7615.19.10, 7615.19.30, 7615.19.50, 7615.19.70, 7615.19.90, 7615.20.00, 7616.99.10, 7616.99.50, 8479.89.98, 8479.90.94, 8513.90.20, 9403.10.00, 9403.20.00, 7604.21.00.00, 7604.29.10.00, 7604.29.30.10, 7604.29.30.50, 7604.29.50.30, 7604.29.50.60, 7608.20.00.30, 7608.20.00.90, 8302.10.30.00, 8302.10.60.30, 8302.10.60.60, 8302.10.60.90, 8302.20.00.00, 8302.30.30.10, 8302.30.30.60, 8302.41.30.00, 8302.41.60.15, 8302.41.60.45, 8302.41.60.50, 8302.41.60.80, 8302.42.30.10, 8302.42.30.15, 8302.42.30.65, 8302.49.60.35, 8302.49.60.45, 8302.49.60.55, 8302.49.60.85, 8302.50.00.00, 8302.60.90.00, 8305.10.00.50, 8306.30.00.00, 8418.99.80.05, 8418.99.80.50, 8418.99.80.60, 8419.90.10.00, 8422.90.06.40, 8479.90.85.00, 8486.90.00.00, 8487.90.00.80, 8503.00.95.20, 8515.90.20.00, 8516.90.50.00, 8516.90.80.50, 8708.80.65.90, 9401.90.50.81, 9403.90.10.40, 9403.90.10.50, 9403.90.10.85, 9403.90.25.40, 9403.90.25.80, 9403.90.40.05, 9403.90.40.10, 9403.90.40.60, 9403.90.50.05, 9403.90.50.10, 9403.90.50.80, 9403.90.60.05, 9403.90.60.10, 9403.90.60.80, 9403.90.70.05, 9403.90.70.10, 9403.90.70.80, 9403.90.80.10, 9403.90.80.15, 9403.90.80.20, 9403.90.80.30, 9403.90.80.41, 9403.90.80.51, 9403.90.80.61, 9506.51.40.00, 9506.51.60.00, 9506.59.40.40, 9506.70.20.90, 9506.91.00.10, 9506.91.00.20, 9506.91.00.30, 9506.99.05.10, 9506.99.05.20, 9506.99.05.30, 9506.99.15.00, 9506.99.20.00, 9506.99.25.80, 9506.99.28.00, 9506.99.55.00, 9506.99.60.80, 9507.30.20.00, 9507.30.40.00, 9507.30.60.00, 9507.90.60.00, and 9603.90.80.50.

The subject merchandise entered as parts of other aluminum products may be classifiable under the following additional Chapter 76 subheadings: 7610.10, 7610.90, 7615.19, 7615.20, and 7616.99 as well as under other HTSUS chapters. In addition, fin evaporator coils may be classifiable under HTSUS numbers: 8418.99.80.50 and 8418.99.80.60. While HTSUS subheadings are provided for convenience and customs purposes, the written description of the scope of this Order is dispositive.

The Department is conducting two scope inquiries concerning aluminum extrusions made from 5 series aluminum alloy. Petitioner (Aluminum Extrusions Fair Trade Committee) advocates that the Department impose a certification requirement related to these products, which the Department is considering in the context of these scope proceedings. Parties that wish to file comments on this potential certification requirement must do so on the record of these scope proceedings.⁶ The final scope rulings, including our decision with respect to the certification issue, are currently due July 7, 2015.

⁶ See Letter from Trending Imports LLC to the Department, “Aluminum Extrusions from the People's Republic of China: Trending Imports LLC Request for Scope Ruling Concerning 5050 Alloy Extrusions,” dated December 12, 2013, and Letter from Kota International, LTD to the Department, “Antidumping Duty and Countervailing Duty Orders on Aluminum Extrusions from the People's Republic of China: Scope Ruling Request,” dated October 21, 2013.

Separate Rates

In the Initiation Notice, we informed parties of the opportunity to request a separate rate.⁷ In proceedings involving non-market economy (NME) countries, the Department begins with a rebuttable presumption that all companies within the NME country are subject to government control and, thus, should be assigned a single weighted-average dumping margin. It is the Department's policy to assign all exporters of merchandise subject to an administrative review involving an NME country this single rate unless an exporter can demonstrate that it is sufficiently independent so as to be entitled to a separate rate. Companies that wanted to be considered for a separate rate in this review were required to timely file a separate-rate application or a separate-rate certification to demonstrate their eligibility for a separate rate. Separate-rate applications and separate-rate certifications were due to the Department within 60 calendar days of the publication of the Initiation Notice.

⁷ See Initiation Notice, 79 FR at 36463-36464.

In this review, 14 companies for which a review was requested and which remain under review did not submit separate-rate information to rebut the presumption that they are subject to government control.⁸ These companies are: Aluminicaste Fundicion de Mexico; China Zhongwang Holdings, Ltd.; Classic & Contemporary Inc.; Dongguan Golden Tiger; Dongguan Golden Tiger Hardware Industrial Co., Ltd.; Gold Mountain International Development, Ltd.; Golden Dragon Precise Copper Tube Group, Inc.; Metaltek Metal Industry Co., Ltd.; Nidec Sankyo Singapore Pte. Ltd.; Press Metal International Ltd.; tenKsolar, Inc.; Tianjin Jinmao Import & Export Corp., Ltd.; WTI Building Products, Ltd.; and Zahoqing China Square Industry Limited/Zhaoqing China Square Industry Limited. As further discussed in the Preliminarily Decision Memorandum, we preliminarily determine that these entities have not demonstrated that they operate free from government control and thus are not eligible for a separate rate.

⁸ One company, Zhaoqing New Zhongya Aluminum Co., Ltd. (New Zhongya), was determined to have been succeeded by Guangdong Zhongya Aluminum Company Limited (Guangdong Zhongya) in a changed circumstances review. See Aluminum Extrusions From the People's Republic of China: Final Results of Changed Circumstances Review, 77 FR 54900 (September 6, 2012). Thus, despite the fact that a review was initiated of New Zhongya, it is not being included among these 14 companies because its successor in interest, Guangdong Zhongya, is part of the Guang Ya Group/Zhongya/Xinya single entity.

One additional company under review, Shenyang Yuanda Aluminium Industry Engineering Co., Ltd. (Yuanda), submitted a separate-rate application, but, as further discussed in the Preliminary Decision Memorandum, we preliminarily determine not to grant this company a separate rate because its separate-rate application did not contain evidence of a suspended entry of subject merchandise during the POR.

In addition to Union, 11 companies still under review submitted separate-rate applications or separate-rate certifications and responses to supplemental questionnaires which provide sufficient information to preliminarily determine that they are entitled to a separate rate. These eleven companies are: Allied Maker Limited; Changzhou Changzheng Evaporator Co., Ltd.; Dongguan Aoda Aluminum Co., Ltd.; Justhere Co., Ltd.; Kam Kiu Aluminium Products Sdn Bhd; Kromet International Inc. (Kromet); Metaltek Group Co., Ltd.; Permasteelisa South China Factory; Permasteelisa Hong Kong Ltd.; Taishan City Kam Kiu Aluminium Extrusion Co., Ltd.; and tenKsolar (Shanghai) Co., Ltd. A full discussion of the basis for granting these companies a separate rate can be found in the Preliminary Decision Memorandum.

Rate for Non-Examined Companies Which Are Eligible for a Separate Rate

The statute and the Department's regulations do not address the establishment of the rate applied to individual respondents not selected for individual examination when the Department limits its examination in an administrative review pursuant to section 777A(c)(2) of the Act. Generally, the Department looks to section 735(c)(5) of the Act, which provides instructions for calculating the all-others rate in an investigation, for guidance when calculating the rate for separate-rate respondents which we did not examine individually in an administrative review. Section 735(c)(5)(A) of the Act notes a preference that we are not to calculate an all-others rate using rates for individually-examined respondents which are zero, de minimis, or based entirely on facts available. Section 735(c)(5)(B) of the Act provides that, where all rates are zero, de minimis, or based entirely on facts available, the Department may use “any reasonable method” for assigning a rate to non-examined respondents.

For these preliminary results, the rates we determined for the mandatory respondents were either zero, de minimis, or based on entirely on facts available. Therefore, we preliminarily determine that the application of the rate from the investigation in this proceeding to the non-examined separate-rate companies is consistent with precedent ⁹ and the most appropriate method to determine the separate rate in the instant review.¹⁰ Pursuant to this method, we are preliminarily assigning the margin of 32.79 percent, the most recent margin calculated for the non-examined separate-rate respondents,¹¹ to the non-examined separate-rate respondents in the instant review.

⁹ See, e.g., Certain Frozen Warmwater Shrimp From the People's Republic of China: Preliminary Results and Preliminary Partial Rescission of Fifth Antidumping Duty Administrative Review, 76 FR 8338, 8342 (February 14, 2011), unchanged in Administrative Review of Certain Frozen Warmwater Shrimp From the People's Republic of China: Final Results and Partial Rescission of Antidumping Duty Administrative Review, 76 FR 51940 (August 19, 2011); see also Administrative Review of Certain Frozen Warmwater Shrimp From the People's Republic of China: Final Results and Partial Rescission of Antidumping Duty Administrative Review, 75 FR 49460, 49463 (August 13, 2010).

¹⁰ This is also consistent with the Department's determination in prior segments of this proceeding. See 2010-2012 Final Results, 79 FR at 99 and 2012-2013 Final Results, 79 FR at 78786.

¹¹ This margin is from the less-than-fair-value investigation. See Aluminum Extrusions From the People's Republic of China: Final Determination of Sales at Less Than Fair Value, 76 FR 18524, 18530 (April 4, 2011).

Preliminary Determination of No Shipments

One company remaining under review, Xin Wei, timely submitted a certification indicating that it had no sales, shipments, or entries of subject merchandise during the POR.¹² Consistent with our practice, the Department requested that CBP conduct a query on potential shipments made by Xin Wei during the POR; CBP provided no evidence that contradicted Xin Wei's claim of no shipments. Based on Xin Wei's no-shipment certification and our analysis of the CBP information, we preliminarily determine that Xin Wei had no shipments during the POR. In addition, consistent with our practice in NME cases, the Department is not rescinding this review, in part, but intends to complete the review with respect to Xin Wei and issue appropriate instructions to CBP based on the final results of the review.¹³

¹² See Letter from Xin Wei to the Department, “Aluminum Extrusions from the People's Republic of China: Certification of No Sales, Shipments, or Entries,” dated August 26, 2014.

¹³ See Non-Market Economy Antidumping Proceedings: Assessment of Antidumping Duties, 76 FR 65694, 65695 (October 24, 2011).

Application of Adverse Facts Available

Pursuant to sections 776(a)(2)(B), (C), and (D) of the Act, the Department preliminarily finds that the use of facts otherwise available is warranted with respect to Jangho because Jangho failed to provide information in the form and manner requested by the Department, and therefore significantly impeded the proceeding.¹⁴ Furthermore, for the information which Jangho did provide, a large amount of that information would not be verifiable.¹⁵ We also find that the use of facts otherwise available is warranted with respect to Guang Ya Group/Zhongya/Xinya in accordance with sections 776(a)(2)(A) and (C) of the Act, because Guang Ya Group/Zhongya/Xinya withheld information that was requested and, by not providing requested information, significantly impeded the proceeding.

¹⁴ See Memorandum to Abdelali Elouaradia, “2013-2014 Preliminary Results of the Antidumping Duty Administrative Review of Aluminum Extrusions from the People's Republic of China; Application of Adverse Facts Available for Jangho,” dated June 1, 2015 (Jangho AFA Memorandum); see also Preliminary Decision Memorandum.

¹⁵ Id.

Further, pursuant to section 776(b) of the Act, the Department preliminarily determines that both Jangho and Guang Ya Group/Zhongya/Xinya failed to cooperate by not acting to the best of their abilities to comply with the Department's requests for information, and, thus, an adverse inference is warranted.

Because the Department preliminarily determines that Jangho and Guang Ya Group/Zhongya/Xinya failed to cooperate by not acting to the best of their abilities to comply with requests for information, we have determined that they are not eligible for a separate rate.¹⁶ Regarding Jangho, the Department preliminarily finds that Jangho's original questionnaire and supplemental questionnaire responses were grossly deficient, and therefore the record does not contain the information necessary to make a separate rate determination.¹⁷ Guang Ya Group/Zhongya/Xinya, on the other hand, failed to provide a response to the Department's questionnaire at all. As such, separate rates are not warranted for Jangho or Guang Ya Group/Zhonya/Xinya.

¹⁶ See section 776(b) of the Act.

¹⁷ See Jangho AFA Memorandum.

PRC-Wide Entity

As the Department preliminarily determines, based on AFA, that Jangho and Guang Ya Group/Zhongya/Xinya are not eligible for a separate rate, we determine that both companies are part of the PRC-wide entity.

In addition, 14 companies still subject to these preliminary results are not eligible for separate-rate status because they did not submit separate-rate applications or certifications, and one company still under review, Yuanda, submitted a separate-rate application that did not demonstrate eligibility for a separate rate. As a result, the Department preliminarily finds these 15 companies are also part of the PRC-wide entity.

The Department's change in policy regarding conditional review of the PRC-wide entity applies to this administrative review.¹⁸ Under this policy, the PRC-wide entity will not be under review unless a party specifically requests, or the Department self-initiates, a review of the entity. Because no party requested a review of the PRC-wide entity in this review, the entity is not under review and the entity's rate from the previous administrative review (i.e., 33.28 percent) is not subject to change.¹⁹

¹⁸ See Antidumping Proceedings: Announcement of Change in Department Practice for Respondent Selection in Antidumping Duty Proceedings and Conditional Review of the Nonmarket Economy Entity in NME Antidumping Duty Proceedings, 78 FR 65963, 65970 (November 4, 2013).

¹⁹ See 2012-2013 Final Results, 79 FR at 78787.

Methodology

The Department is conducting this review in accordance with section 751(a)(1)(B) of the Act. We calculated export prices in accordance with section 772 of the Act. Because the PRC is an NME country within the meaning of section 771(18) of the Act, the Department calculated normal value in accordance with section 773(c) of the Act.

For a full description of the methodology underlying our preliminary results, see the Preliminary Decision Memorandum, dated concurrently with these results and hereby adopted by this notice. A list of the topics included in the Preliminary Decision Memorandum is included as an appendix to this notice. The Preliminary Decision Memorandum is a public document and is on file electronically via Enforcement and Compliance's Antidumping and Countervailing Duty Centralized Electronic Service System (ACCESS). ACCESS is available to registered users at http://access.trade.gov and to all parties in the Central Records Unit, Room 7046 of the main Department of Commerce building. In addition, parties can obtain a complete version of the Preliminary Decision Memorandum on the Internet at http://enforcement.trade.gov/frn/index.html. The signed Preliminary Decision Memorandum and the electronic version of the Preliminary Decision Memorandum are identical in content.

Adjustments for Countervailable Subsidies

Because no mandatory respondent established eligibility for an adjustment under section 777A(f) of the Act for countervailable domestic subsidies, the Department, for these preliminary results, did not make an adjustment pursuant to section 777A(f) of the Act for countervailable domestic subsidies for Union or the separate-rate recipients.²⁰

²⁰ See Preliminary Decision Memorandum.

Pursuant to section 772(c)(1)(C) of the Act, the Department made an adjustment for countervailable export subsidies. For Union, we made an adjustment to its reported U.S. price.²¹ For the companies eligible for a separate rate, because all of these companies participated in the second countervailing duty administrative review,²² an adjustment has been made based on the countervailable export subsidy found for the non-selected companies in the final results of the second countervailing duty administrative review (or its own calculated rate, in the case of Kromet).²³

²¹ See Memorandum from Mark Flessner to the File, “2013-2014 Administrative Review of the Antidumping Duty Order on Aluminum Extrusions from the People's Republic of China: Analysis of the Preliminary Results Margin Calculation for Union Industry (Asia) Co., Ltd.,” dated June 1, 2015.

²² See Aluminum Extrusions From the People's Republic of China: Final Results of Countervailing Duty Administrative Review; 2012, 79 FR 78788, 78789-90 (December 31, 2014).

²³ See Preliminary Decision Memorandum.

For the PRC-wide entity, since the entity is not currently under review, its rate is not subject to change.²⁴

²⁴ See 2012-2013 Final Results, 79 FR at 78787. As the rate for the PRC-wide entity is not subject to change in the instant review, the margin from the 2012-2013 Final Results that we are applying to the PRC-wide entity in the instant review is net of countervailable domestic and export subsidies.

Preliminary Results of Review

The Department preliminarily determines that the following weighted-average dumping margins exist for the POR:

Exporter | Weighted- average dumping margin (percent) | Margin adjusted for liquidation and cash deposit purposes (percent)
Allied Maker Limited | 32.79 | 32.51
Changzhou Changzheng Evaporator Co., Ltd | 32.79 | 32.51
Dongguan Aoda Aluminum Co., Ltd | 32.79 | 32.51
Justhere Co., Ltd | 32.79 | 32.51
Kam Kiu Aluminium Products Sdn Bhd ²⁵ | 32.79 | 32.51
Kromet International Inc | 32.79 | 32.44
Metaltek Group Co., Ltd | 32.79 | 32.51
Permasteelisa Hong Kong Ltd ²⁶ | 32.79 | 32.51
tenKsolar (Shanghai) Co., Ltd | 32.79 | 32.51
Union Industry (Asia) Co., Ltd | 0.00 | 0.00

Additionally, the Department preliminarily determines that the following companies are part of the PRC-wide entity: Jangho (which includes Guangzhou Jangho Curtain Wall System Engineering Co., Ltd. and Jangho Curtain Wall Hong Kong Ltd.); Guang Ya Group/Zhongya/Xinya (which includes Guang Ya Aluminium Industries Co., Ltd.; Foshan Guangcheng Aluminium Co., Ltd.; Kong Ah International Company Limited; Guang Ya Aluminium Industries (Hong Kong) Ltd.; Guangdong Zhongya Aluminium Company Limited; Zhongya Shaped Aluminium (HK) Holding Limited; Karlton Aluminum Company Ltd.; and Xinya Aluminum & Stainless Steel Product Co., Ltd.); Aluminicaste Fundicion de Mexico; China Zhongwang Holdings, Ltd.; Classic & Contemporary Inc.; Dongguan Golden Tiger; Dongguan Golden Tiger Hardware Industrial Co., Ltd.; Gold Mountain International Development, Ltd.; Golden Dragon Precise Copper Tube Group, Inc.; Metaltek Metal Industry Co., Ltd.; Nidec Sankyo Singapore Pte. Ltd.; Press Metal International Ltd.; Shenyang Yuanda Aluminium Industry Engineering Co., Ltd.; tenKsolar, Inc.; Tianjin Jinmao Import & Export Corp., Ltd.; WTI Building Products, Ltd.; and Zahoqing China Square Industry Limited/Zhaoqing China Square Industry Limited. The rate previously established for the PRC-wide entity in the previous administrative review is 33.28 percent.²⁷

²⁵ Although the Department initiated a review for both Taishan City Kam Kiu Aluminium Extrusion Co., Ltd. and Kam Kiu Aluminium Products Sdn Bhd, it is apparent from the company's separate-rate application that Kam Kiu Aluminium Products Sdn Bhd is the exporter and Taishan City Kam Kiu Aluminium Extrusion Co., Ltd. is a producer only; thus, Kam Kiu Aluminium Products Sdn Bhd is the appropriate party to grant the separate rate status.

²⁶ Although the Department initiated a review for Permasteelisa South China Factory and Permasteelisa Hong Kong Ltd., it is apparent from the company's separate-rate application that Permasteelisa Hong Kong Ltd. is the exporter and Permasteelisa South China Factory is a producer only; thus, Permasteelisa Hong Kong Ltd. is the appropriate party to grant the separate rate status.

²⁷ See 2012-2013 Final Results, 79 FR at 78787.

Disclosure and Public Comment

The Department intends to disclose to the parties the calculations performed for these preliminary results within five days of the date of publication of this notice in accordance with 19 CFR 351.224(b). Interested parties may submit case briefs no later than 30 days after the date of publication of these preliminary results of review.²⁸ Rebuttal briefs, limited to issues raised in the case briefs, may be filed no later than five days after the case briefs are filed.²⁹ Parties who submit arguments are requested to submit with the argument (a) a statement of the issue, (b) a brief summary of the argument, and (c) a table of authorities.³⁰ Parties submitting briefs should do so pursuant to the Department's electronic filing requirements.

²⁸ See 19 CFR 351.309(c)(1)(ii).

²⁹ See 19 CFR 351.309(d)(1)-(2).

³⁰ See 19 CFR 351.309(c)(2) and (d)(2).

Any interested party may request a hearing within 30 days of publication of this notice.³¹ Hearing requests should contain the following information: (1) The party's name, address, and telephone number; (2) the number of participants; and (3) a list of the issues to be discussed. Oral presentations will be limited to issues raised in the case and rebuttal briefs. If a request for a hearing is made, parties will be notified of the time and date for the hearing to be held at the U.S. Department of Commerce, 14th Street and Constitution Avenue NW., Washington, DC 20230.³²

³¹ See 19 CFR 351.310(c).

³² See 19 CFR 351.310(d).

Unless extended, the Department intends to issue the final results of this administrative review, which will include the results of our analysis of all issues raised in the case briefs, within 120 days of publication of these preliminary results in the Federal Register, pursuant to section 751(a)(3)(A) of the Act.

Assessment Rates

Upon issuance of the final results of this review, the Department will determine, and CBP shall assess, antidumping duties on all appropriate entries covered by this review.³³ The Department intends to issue assessment instructions to CBP 15 days after publication of the final results of this review.

³³ See 19 CFR 351.212(b)(1).

For each individually examined respondent whose weighted-average dumping margin is above de minimis (i.e., 0.50 percent) in the final results of this review, the Department will calculate importer-specific ad valorem duty assessment rates based on the ratio of the total amount of dumping calculated for the importer's examined sales to the total entered value of those same sales, in accordance with 19 CFR 351.212(b)(1). We will instruct CBP to assess antidumping duties on all appropriate entries covered by this review where an importer- (or customer-) specific assessment rate calculated in the final results of this review is above de minimis. Where either the respondent's weighted-average dumping margin is zero or de minimis, or an importer- (or customer-) specific assessment rate is zero or de minimis, the Department will instruct CBP to liquidate the appropriate entries without regard to antidumping duties. We intend to instruct CBP to liquidate entries containing subject merchandise exported by the PRC-wide entity at the PRC-wide rate.

For entries that were not reported in the U.S. sales database submitted by an exporter individually examined during this review, the Department will instruct CBP to liquidate such entries at the PRC-wide rate. Additionally, if the Department determines that an exporter under review had no shipments of the subject merchandise, any suspended entries that entered under that exporter's case number will be liquidated at the PRC-wide rate.³⁴

³⁴ See Non-Market Economy Antidumping Proceedings: Assessment of Antidumping Duties, 76 FR 65694 (October 24, 2011).

The final results of this review shall be the basis for the assessment of antidumping duties on entries of merchandise covered by the final results of this review and for future deposits of estimated duties, where applicable.

Cash Deposit Requirements

The following cash deposit requirements for estimated antidumping duties, when imposed, will apply to all shipments of subject merchandise from the PRC entered, or withdrawn from warehouse, for consumption on or after the publication of the final results of this administrative review, as provided by section 751(a)(2)(C) of the Act: (1) If the companies preliminarily determined to be eligible for a separate rate receive a separate rate in the final results of this administrative review, their cash deposit rate will be equal to the weighted-average dumping margin established in the final results of this review, as adjusted for domestic and export subsidies (except, if that rate is de minimis, then the cash deposit rate will be zero); (2) for any previously investigated or reviewed PRC and non-PRC exporters that are not under review in this segment of the proceeding but that received a separate rate in the most recently completed segment of this proceeding, the cash deposit rate will continue to be the exporter-specific rate published for the most recently completed segment of this proceeding; (3) for all PRC exporters of subject merchandise that have not been found to be entitled to a separate rate, the cash deposit rate will be that for the PRC-wide entity, which is 33.18 percent;³⁵ and (4) for all non-PRC exporters of subject merchandise which have not received their own rate, the cash deposit rate will be the rate applicable to the PRC exporter that supplied that non-PRC exporter.

³⁵ See 2012-2013 Final Results, 79 FR at 78787.

These cash deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

Notification to Interested Parties

We are issuing and publishing notice of these preliminary results in accordance with sections 751(a)(1) and 777(i)(1) of the Act and 19 CFR 351.221(b)(4).

Dated: June 1, 2015.
Ronald K. Lorentzen,
Acting Assistant Secretary for Enforcement and Compliance.

Appendix

List of Topics Discussed in the Preliminary Decision Memorandum

1. Summary

2. Background

3. Respondent Selection

4. Scope of the Order

5. Affiliation and Collapsing

6. Preliminary Determination of No Shipments

7. Non-Market Economy Country

8. Separate Rates

9. Separate-Rate Recipients

10. Rate for Separate-Rate Recipients

11. The PRC-Wide Entity

12. Application of Facts Available and Use of Adverse Inference

13. Surrogate Country and Surrogate Value Data

14. Surrogate Country

15. Economic Comparability

16. Significant Producers of Identical or Comparable Merchandise

17. Data Availability

18. Date of Sale

19. Comparisons to Normal Value

A. Determination of Comparison Method

B. Results of the Differential Pricing Analysis

20. Export Price

21. Value-Added Tax

22. Normal Value

23. Factor Valuations

24. Adjustments for Countervailable Subsidies

25. Currency Conversion

26. Recommendation

[FR Doc. 2015-13967 Filed 6-5-15; 8:45 am]

BILLING CODE 3510-DS-P